DEPARTMENT OF THE INTERIOR

Geological Survey

[GX15EN05ESB0500]

Advisory Committee on Climate Change and Natural Resource Science

AGENCY: U.S. Geological Survey, Interior.

ACTION: Meeting Notice.

SUMMARY: In accordance with the requirements of the Federal Advisory Committee Act, 5 U.S.C. App. 2, we announce that the Advisory Committee on Climate Change and Natural Resource Science will hold a meeting via phone.

DATES: Meeting via phone: March 30, 2015 at 2 p.m. (Eastern Daylight Time).

FOR FURTHER INFORMATION CONTACT: Mr. Robin O'Malley, Designated Federal Officer, Policy and Partnership Coordinator, National Climate Change and Wildlife Science Center, U.S. Geological Survey, 12201 Sunrise Valley Drive, Mail Stop 400, Reston, VA 20192, romalley@usgs.gov, (703) 648-4086.

SUPPLEMENTARY INFORMATION: Chartered in May 2013, the Advisory Committee on Climate Change and Natural Resource Science (ACCCNRS) advises the Secretary of the Interior on the establishment and operations of the U.S. Geological Survey (USGS) National Climate Change and Wildlife Science Center (NCCWSC) and the Department of the Interior (DOI) Climate Science Centers (CSCs). ACCCNRS members represent federal agencies; state and local governments; American Indian tribes and other Native American entities; nongovernmental organizations; academic institutions; and the private sector. Duties of the committee include: (A) Advising on the contents of a national strategy identifying key science priorities to advance the management of natural resources in the face of climate change; (B) advising on the nature, extent, and quality of relations with and engagement of key partners at the regional/CSC level; (C) advising on the nature and effectiveness of mechanisms to ensure the identification of key priorities from management partners and to effectively deliver scientific results in useful forms; (D) advising on mechanisms that may be employed by the NCCWSC to ensure high standards of scientific quality and integrity in its products, and to review and evaluate the performance of individual CSCs, in advance of opportunities to re-establish expiring agreements; and (E) coordinating as appropriate with any Federal Advisory Committee established for the DOI Landscape Conservation Cooperatives. More information about the ACCCNRS is available at https://nccwsc.usgs.gov/acccnrs.

Meeting Agenda: The objectives of the teleconference are to: (1) Resolve remaining substantive issues with the text of the Committee's report, (2) formally approve the final draft of the Committee's report, and if time allows, (3) discuss plans for the next ACCCNRS meeting. The final agenda will be posted on https://nccwsc.usgs.gov/acccnrs prior to the meeting.

Public Input: All Committee meetings are open to the public. Interested members of the public should RSVP to Lisa Lacitiva by 1 week in advance via email, at nccwsc@usgs.gov, in order to receive phone line information and secure a line (space will be limited).

Written comments should be submitted, prior to, during, or after the meeting, to Mr. Robin O'Malley, Designated Federal Officer, by U.S. Mail to: Mr. Robin O'Malley, Designated Federal Officer, U.S. Geological Survey, 12201 Sunrise Valley Drive, Mail Stop 400, Reston, VA 20192, or via email, at romalley@usgs.gov.

Persons with disabilities requiring special accommodations, such as closed captioning services, should contact Mr. O'Malley at (703) 648-4086 at least seven calendar days prior to the meeting. We will do our best to accommodate those who are unable to meet this deadline.

Robin O'Malley,
Designated Federal Officer.

[FR Doc. 2015-03728 Filed 2-23-15; 8:45 am]

BILLING CODE 4311-AM-P